ENVIRONMENTAL PROTECTION AGENCY

40 CFR Parts 50 and 51

[EPA-HQ-OAR-2005-0159; FRL-8506-6]

RIN 2060-AN40

Exceptional Events Rule; Notice of Action Denying Petition for Reconsideration

AGENCY: Environmental Protection Agency (EPA).

ACTION: Notice of Action Denying Petition for Reconsideration.

SUMMARY: The EPA is providing notice that it has responded to a petition for reconsideration of the Exceptional Events Rule (EER). On March 22, 2007, EPA finalized a rule in the Federal Register to govern the review and handling of air quality monitoring data influenced by exceptional events. Section 319 of the Clean Air Act (CAA), as amended by section 6013 of the Safe Accountable Flexible Efficient-Transportation Equity Act: A Legacy for Users (SAFE-TEA-LU) of 2005 required the Administrator to publish a proposed rule in the Federal Register by March 1, 2006. Further, SAFE-TEA-LU required the EPA Administrator to publish a final rule within 1 year of the proposal. The final rule on the “Treatment of Data Influenced by Exceptional Events” became effective on May 21, 2007. Subsequent to the publication of this action, a petition for reconsideration from the Natural Resources Defense Council (NRDC) was received by EPA on May 21, 2007, signed by John D. Walke; Director, Clean Air Program; Natural Resources Defense Council; 1200 New York Avenue, NW., Suite 400, Washington, DC 20005-3928. The EPA considered the petition and supporting information along with information contained in the rulemaking docket (Docket number EPA-HQ-OAR-2005-0159-0163) in reaching a decision on the petitions. EPA Administrator Stephen L. Johnson denied the petition for reconsideration in a letter to the petitioner dated November 5, 2007. The letter documents EPA's reasons for the denial.

FOR FURTHER INFORMATION CONTACT: Padmini Singh, U.S. EPA, Office of General Counsel, Mail Code 2344A, 1200 Pennsylvania Avenue, NW., Washington, DC 20460, telephone (202) 564-5641, e-mail at singh.padmini@epa.gov.

SUPPLEMENTARY INFORMATION:

I. How Can I Get Copies of This Document and Other Related Information?

This Federal Register notice, the petition for reconsideration, and the letter denying the petition for reconsideration are available in the docket that EPA established for the Exceptional Events Rule (docket number EPA-HQ-OAR-2005-0159). The table below identifies the petition received by EPA, the date EPA received the petition, the document identification number for the petition, the date of EPA's response, and the document identification number for EPA's response. (Note that all the document numbers listed in the table are in the form of “EPA-HQ-OAR-XXXX-XXXX-xxxx.”)

Petitioner | Date of petition to EPA | Petition: Document No. in docket | Date of EPA response | EPA response: Document No. in docket
Natural Resources Defense Council | 5/21/2007 | 0163 | 11/05/2007 | 0175

All documents in the docket are listed on the http://www.regulations.gov Web site. Although listed in the index, some information is not publicly available, e.g., confidential business information (CBI) or other information whose disclosure is restricted by statute. Certain other material, such as copyrighted material, is not placed on the Internet and will be publicly available only in hard copy form. Publicly available docket materials are available either electronically through http://www.regulations.gov or in hard copy at the EPA Docket Center (Air Docket), EPA/DC, EPA West, Room 3334, 1301 Constitution Ave., NW., Washington, DC. The Public Reading Room is open from 8:30 a.m. to 4:30 p.m., Monday through Friday, excluding legal holidays. The telephone number for the Public Reading Room is (202) 566-1744 and the telephone number for the Air Docket is (202) 566-1742.

II. Judicial Review

Section 307(b)(1) of the CAA indicates which Federal Courts of Appeal have venue for petitions for review of final actions by EPA. This section provides, in part, that petitions for review must be filed in the Court of Appeals for the District of Columbia Circuit if: (i) The agency action consists of “nationally applicable regulations promulgated, or final action taken, by the Administrator,” or (ii) such actions are locally or regionally applicable, if “such action is based on a determination of nationwide scope or effect and if in taking such action the Administrator finds and publishes that such action is based on such a determination.”

The EPA has determined that its action denying the petition for reconsideration is of nationwide scope and effect for purposes of section 307(b)(1) because EPA previously found the Exceptional Events Rule to be of nationwide scope and effect. Thus, any petitions for review of the letters denying the petitions for reconsideration described in this Notice must be filed in the Court of Appeals for the District of Columbia Circuit within 60 days from the date this Notice is published in the Federal Register.

Dated: December 10, 2007.
Robert J. Meyers,
Principal Deputy Assistant Administrator, Office of Air and Radiation.

[FR Doc. E7-24242 Filed 12-13-07; 8:45 am]

BILLING CODE 6560-50-P